DEPARTMENT OF JUSTICE

Federal Bureau of Investigation

Notice of Intent To Publish a Request for Proposal for the Selection of Channelers

AGENCY: Federal Bureau of Investigation, Department of Justice.

ACTION: Notice of intent to publish a Request for Proposal for the selection of Channelers requiring access to criminal history record information for noncriminal justice purposes pursuant to the National Crime Prevention and Privacy Compact Council's Outsourcing Rule and Standard.

SUMMARY: The FBI intends to publish a Request For Proposal (RFP) in an effort to select a limited number of third parties to serve as Channelers. Channelers will receive noncriminal justice applicant fingerprint submissions and collect associated fees, ensure fingerprint submissions are properly and adequately completed, electronically forward fingerprint submissions to the FBI's Criminal Justice Information Services (CJIS) Division for national noncriminal justice criminal history record checks, and receive electronic record check results for dissemination to Authorized Recipients that are permitted access to criminal history record information (CHRI) pursuant to Federal statute, Federal Executive order, or a State statute that has been approved by the United States Attorney General.

FOR FURTHER INFORMATION CONTACT: Ms. Kathrina L. Sliger, FBI Contracting Officer, Information Technology Contracts Unit, FBI CJIS Division, 1000 Custer Hollow Road, Module E-3, Clarksburg, WV 26306; telephone (304) 625-4142; e-mail ksliger@leo.gov; fax number (304) 625-5391.

SUPPLEMENTARY INFORMATION: The FBI's Criminal Justice Information Services (CJIS) Division, Clarksburg, West Virginia, provides identification services based on fingerprints and maintains a national repository of fingerprint identification information. Since 1999, the FBI has performed identification services using the Integrated Automated Fingerprint Identification System (IAFIS). The IAFIS is designed to process fingerprint information electronically.

The National Crime Prevention and Privacy Compact Act of 1998 (Compact) (title 42, United States Code, sections 14611-14616) provides a legal framework for the cooperative exchange of criminal history records for noncriminal justice purposes. The Compact established a fifteen-member National Crime Prevention and Privacy Compact Council (Council), whose members are appointed by the United States Attorney General, to promulgate rules, procedures, and standards governing the use of the Interstate Identification Index (III) CHRI for noncriminal justice purposes.

The Council published the “Outsourcing of Noncriminal Justice Administrative Functions” Interim Final Rule (IFR) and two “Security and Management Control Outsourcing Standards” (Outsourcing Standards) in the Federal Register (FR) on December 16, 2004. See 69 FR 75243 and 69 FR 75350, respectively. The Council adopted the IFR as a final rule and published a combined Outsourcing Standard in the Federal Register on December 15, 2005. See 70 FR 74200 and 70 FR 74373, respectively. The rule permits an Authorized Recipient of CHRI to outsource noncriminal justice administrative functions relating to the processing of CHRI to a third party, subject to appropriate controls. The rule states that contracts or agreements providing for authorized outsourcing “shall incorporate by reference a security and management control outsourcing standard approved by the Compact Council after consultation with the United States Attorney General.”

The purpose of this notice is to provide interested parties advance notice that the FBI will soon publish an RFP for Channelers pursuant to the Council's Outsourcing Rule and Standard. The number of Channelers that will eventually be approved is unknown at this time; however, the FBI will strive to strike a balance between the number of Channelers it has the capability to administer (i.e. the number of CJIS Wide Area Network connections the FBI may reasonably establish during the first year of this initiative) and the number needed to effectively and efficiently serve the needs of Authorized Recipients. The RFP is expected to be advertised in the FedBizOpps, formerly the Commerce Business Daily, within 30 days of publishing this notice.

Dated: April 6, 2006.
David Cuthbertson,
Section Chief, Programs Development Section, Federal Bureau of Investigation.

[FR Doc. E6-7365 Filed 5-15-06; 8:45 am]

BILLING CODE 4410-02-P